DEPARTMENT OF ENERGY

Federal Energy Regulatory Commission

Combined Notice of Filings #1

Take notice that the Commission received the following electric corporate filings:

Docket Numbers: EC22-86-000.

Applicants: AZ Solar 1, LLC, FL Solar 1, LLC, FL Solar 4, LLC, GA Solar 3, LLC, Grand View PV Solar Two LLC, MS Solar 3, LLC, Sweetwater Solar, LLC, Three Peaks Power, LLC, Twiggs County Solar, LLC, Onward Atlas HoldCo, LLC.

Description: Joint Application for Authorization Under Section 203 of the Federal Power Act of AZ Solar 1, LLC, et al.

Filed Date: 7/8/22.

Accession Number: 20220708-5261.

Comment Date: 5 p.m. ET 7/29/22.

Take notice that the Commission received the following exempt wholesale generator filings:

Docket Numbers: EG22-162-000.

Applicants: SR Clay, LLC.

Description: SR Clay, LLC submits Notice of Self-Certification of Exempt Wholesale Generator Status.

Filed Date: 7/8/22.

Accession Number: 20220708-5191.

Comment Date: 5 p.m. ET 7/29/22.

Take notice that the Commission received the following electric rate filings:

Docket Numbers: ER22-1439-002; ER22-1440-002; ER22-1441-002; ER22-1442-001.

Applicants: EdSan 1B Group 3, LLC, EdSan 1B Group 2, LLC, EdSan 1B Group 1 Sanborn, LLC, EdSan 1B Group 1 Edwards, LLC.

Description: Notice of Non-Material Change in Status of EdSan 1B Group 1 Edwards, LLC, et al.

Filed Date: 7/8/22.

Accession Number: 20220708-5258.

Comment Date: 5 p.m. ET 7/29/22.

Docket Numbers: ER22-1574-001; ER22-1576-001; ER22-1578-001.

Applicants: WPL Wood County Solar, LLC, WPL North Rock Solar, LLC, WPL Bear Creek Solar, LLC.

Description: Notice of Non-Material Change in Status of WPL Bear Creek Solar, LLC, et al.

Filed Date: 7/7/22.

Accession Number: 20220707-5215.

Comment Date: 5 p.m. ET 7/28/22.

Docket Numbers: ER22-2317-000.

Applicants: Portland General Electric Company.

Description: Compliance filing: Order 881 Compliance Filing Att Q to be effective 7/8/2022.

Filed Date: 7/11/22.

Accession Number: 20220711-5001.

Comment Date: 5 p.m. ET 8/1/22.

Docket Numbers: ER22-2318-000.

Applicants: MATL LLP.

Description: Compliance filing: Order 881 Compliance Filing to be effective 3/14/2022.

Filed Date: 7/11/22.

Accession Number: 20220711-5002.

Comment Date: 5 p.m. ET 8/1/22.

Docket Numbers: ER22-2319-000.

Applicants: PJM Interconnection, L.L.C.

Description: § 205(d) Rate Filing: Amendment to ISA No. 5871; Queue No. AD2-180 to be effective 12/11/2020.

Filed Date: 7/11/22.

Accession Number: 20220711-5030.

Comment Date: 5 p.m. ET 8/1/22.

Docket Numbers: ER22-2320-000.

Applicants: PJM Interconnection, L.L.C.

Description: § 205(d) Rate Filing: Original WMPA, Service Agreement No. 6534; Queue No. AE2-074 to be effective 6/10/2022.

Filed Date: 7/11/22.

Accession Number: 20220711-5062.

Comment Date: 5 p.m. ET 8/1/22.

Docket Numbers: ER22-2321-000.

Applicants: Energy Center Paxton LLC.

Description: § 205(d) Rate Filing: Market-Based Rate Tariff Revisions to be effective 7/12/2022.

Filed Date: 7/11/22.

Accession Number: 20220711-5068.

Comment Date: 5 p.m. ET 8/1/22.

Docket Numbers: ER22-2322-000.

Applicants: PNE Energy Supply, LLC.

Description: Notice of Cancellation of Market Based Rate Tariff of PNE Energy Supply, LLC.

Filed Date: 7/7/22.

Accession Number: 20220707-5221.

Comment Date: 5 p.m. ET 7/28/22.

Docket Numbers: ER22-2323-000.

Applicants: Competitive Energy Services, LLC.

Description: Notice of Cancellation of Market Based Rate Tariff of Competitive Energy Services, LLC under ER22-2323.

Filed Date: 7/7/22.

Accession Number: 20220707-5222.

Comment Date: 5 p.m. ET 7/28/22.

Docket Numbers: ER22-2324-000.

Applicants: Motiva Enterprises LLC.

Description: Notice of Cancellation of Market Based Rate Tariff of Motiva Enterprises LLC.

Filed Date: 7/7/22.

Accession Number: 20220707-5223.

Comment Date: 5 p.m. ET 7/28/22.

Docket Numbers: ER22-2325-000.

Applicants: Owens Corning Sales, LLC.

Description: Notice of Cancellation of Market Based Rate Tariff of Owens Corning Sales, LLC.

Filed Date: 7/8/22.

Accession Number: 20220708-5264.

Comment Date: 5 p.m. ET 7/29/22.

Docket Numbers: ER22-2326-000.

Applicants: American Electric Power Service Corporation, PJM Interconnection, L.L.C.

Description: § 205(d) Rate Filing: American Electric Power Service Corporation submits tariff filing per 35.13(a)(2)(iii: AEP submits update to Attachment 1 of ILDSA, SA No. 1336 (7/11/22) to be effective 7/1/2022.

Filed Date: 7/11/22.

Accession Number: 20220711-5082.

Comment Date: 5 p.m. ET 8/1/22.

Docket Numbers: ER22-2327-000.

Applicants: Arizona Public Service Company.

Description: § 205(d) Rate Filing: Service Agreement No. 403, Agave Solar E&P to be effective 6/13/2022.

Filed Date: 7/11/22.

Accession Number: 20220711-5104.

Comment Date: 5 p.m. ET 8/1/22.

Docket Numbers: ER22-2328-000.

Applicants: Florida Power & Light Company.

Description: § 205(d) Rate Filing: SA No. 4 FPL and PowerSouth Amended NITSA and NOA to be effective 12/31/9998.

Filed Date: 7/11/22.

Accession Number: 20220711-5108.

Comment Date: 5 p.m. ET 8/1/22.

Docket Numbers: ER22-2329-000.

Applicants: Gulf Power Company.

Description: Tariff Amendment: Notice of Cancellation—Service Agreement No. 4 to be effective 12/31/9998.

Filed Date: 7/11/22.

Accession Number: 20220711-5109.

Comment Date: 5 p.m. ET 8/1/22.

Docket Numbers: ER22-2330-000.

Applicants: Pacific Gas and Electric Company.

Description: § 205(d) Rate Filing: CCSF Additional Points Filing (SA 275) to be effective 9/10/2022.

Filed Date: 7/11/22.

Accession Number: 20220711-5110.

Comment Date: 5 p.m. ET 8/1/22.

Docket Numbers: ER22-2331-000.

Applicants: Arizona Public Service Company.

Description: § 205(d) Rate Filing: Rate Schedule No. 308, ANPP Wires to Wires at Jojoba to be effective 9/10/2022.

Filed Date: 7/11/22.

Accession Number: 20220711-5114.

Comment Date: 5 p.m. ET 8/1/22.

Docket Numbers: ER22-2332-000.

Applicants: Entergy Services, LLC, Entergy Louisiana, LLC, Entergy Texas, Inc., Entergy Mississippi, LLC, Entergy New Orleans, LLC, Entergy Arkansas, LLC.

Description: § 205(d) Rate Filing: Entergy Services, LLC submits tariff filing per 35.13(a)(2)(iii: MSS-4 Replacement Tariff Protocols to be effective 10/1/2022.

Filed Date: 7/11/22.

Accession Number: 20220711-5127.

Comment Date: 5 p.m. ET 8/1/22.

Take notice that the Commission received the following electric securities filings:

Docket Numbers: ES22-50-000.

Applicants: Deerfield Wind Energy 2, LLC.

Description: Second Amendment to Application Under Section 204 of the Federal Power Act for Authorization to Issue Securities of Deerfield Wind Energy 2, LLC.

Filed Date: 7/7/22.

Accession Number: 20220707-5212.

Comment Date: 5 p.m. ET 7/18/22.

Take notice that the Commission received the following PURPA 210(m)(3) filings:

Docket Numbers: QM22-11-000.

Applicants: Wisconsin Public Service Corporation.

Description: Supplement to April 14, 2022 Application of Wisconsin Public Service Corporation to Terminate Its Mandatory Purchase Obligation under the Public Utility Regulatory Policies Act of 1978.

Filed Date: 7/8/22.

Accession Number: 20220708-5263.

Comment Date: 5 p.m. ET 8/5/22.

The filings are accessible in the Commission's eLibrary system (https://elibrary.ferc.gov/idmws/search/fercgensearch.asp) by querying the docket number. Any person desiring to intervene or protest in any of the above proceedings must file in accordance with Rules 211 and 214 of the Commission's Regulations (18 CFR 385.211 and 385.214) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

Dated: July 11, 2022.
Debbie-Anne A. Reese,
Deputy Secretary.

[FR Doc. 2022-15174 Filed 7-14-22; 8:45 am]

BILLING CODE 6717-01-P